DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period January 16, 2002-February 19, 2002
Firm name | Address | Date petition accepted | Product
Leach and Garner Company | 57 John L. Dietsch Square, North Attleboro, MA 02761 | 01/22/02 | Precious metal jewelry findings and earrings.
Progress Press, Inc | 2922 Nicholas Avenue N.E., Roanoke, VA 24012 | 01/22/02 | Commercial printers.
Cooper Wood Products, Inc | 2785 Grassy Hill Road, Rocky Mount, VA 24151 | 01/28/02 | Wood components for occasional wood furniture.
Standard Printed Circuits, Inc | 44 South Main Street, Sherburne, NY 13460 | 01/28/02 | Printed circuit boards.
Marni Spring Corporation | 100 Bastian Street, Rochester, NY 14621 | 01/28/02 | Wire springs.
Clearwood, L.L.C | 270 Clearwood Drive, Whittier, NC 28789 | 01/28/02 | Finger joint board.
Davis Tool & Die Co., Inc | 888 Bolger Court, Fenton, MO 63026 | 01/30/02 | Metal industrial tooling and dies.
Sheffield Steel Corporation | 2300 S. Highway 97, Sand Springs, OK 74063 | 01/30/02 | Steel bars.
Atlas Foundry Factory Co., Inc | Factory & Henerson Avenue, Marion, IN 46952 | 01/30/02 | Architectural/ornamental iron, industrial bearings and household water system hydrants.
H. O. Bostrom Co., Inc | 818 Progress Avenue, Waukesha, WI 53186 | 01/31/02 | Seats for power wheelchair scooters.
Tesh Manufacturing Inc | 17035 U.S. Highway 89 North, Paris, ID 83261 | 02/04/02 | Helmets.
Grown in Oregon, Inc. dba Oregon Log Home Co | 68175 Highway 20 West, Sisters, OR 97759 | 02/04/02 | Log homes.
LMB, Inc. dba Alaskan Bowl Co | 4630 Old Airport Road, Fairbanks, AK 99706 | 02/04/02 | Wooden bowls.
Datrex, Inc | 13878 Highway 165, Kinder, LA 70648 | 02/05/02 | Marine equipment i.e. buoys, emergency rations, distress signals, survival craft spares and hammer hydrostatic releases.
Automated Engineering Corp | 2802 Leslie Road, Tampa, FL 33619 | 02/04/02 | Printed circuit boards.
Ameri-Cal Floral, Inc | 2897 Freedom Boulevard, Watsonville, CA 95076 | 02/04/02 | Roses and other cut flowers.
Team Manufacturing, Inc | 2625 Homestead Place, Rancho Dominguez, CA 90220 | 02/05/02 | Precision metal stampings.
W. C. Redmon Company, Inc | 200 Harrison, Peru, IN 46970 | 02/05/02 | Infant and juvenile bassinets and clothes hampers made primarily of wicker.
Crystal Group, Inc | 850 Kacena Road, Hiawatha, IA 52233 | 02/05/02 | Data servers for telecommunications equipment.
Quality Custom Mold, Inc | 3207 Innovation Place, Youngstown, OH 44509 | 02/08/02 | Injection molds for automotive, commercial, retail, wholesale and private use.
H & H Meat Products Co., Inc. dba H & H Foods | Expressway 83, Mercedes, TX 78570 | 02/08/02 | Meat processing.
K.C.K. Tool and Die Company | 13878 Highway 165, Kinder, LA 70648 | 02/14/02 | Marine equipment—progressive and line dies.
Willis Family, Inc | 2385 Eastside Road, Hood River, OR 97031 | 02/15/02 | Pears and apples.
Triangle Farms, Inc | 5648 Evans Valley Loop Rd., Silverton, OR 97381 | 02/15/02 | Grass seed.
Maryland Brush Company | 3221 Frederick Avenue, Baltimore, MD 21229 | 02/19/02 | Paint brushes, rollers, and individual brushes.
Tessy Plastics, L.L.C | 231 Jefferson Ridge Parkway, Lynchburg, VA 24501 | 02/19/02 | Injection molds for for telephone housing.
Revolutionary Designs, Inc | 240 Otter Lane, Hatfield, AR 71945 | 02/19/02 | Decorative wood products, including fajita underliners, shaker boxes, and cases.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, D.C. 20230, no later than the close of business of the tenth calendar day following the publication of this notice.

The Catalog of Federal Domestic Assistance official program number and title of the program under which these petitions are submitted is 11.313, Trade Adjustment Assistance.

Dated: February 20, 2002.
Anthony J. Meyer,
Coordinator, Trade Adjustment and Technical Assistance.

[FR Doc. 02-4503 Filed 2-25-02; 8:45 am]

BILLING CODE 3510-24-P